DEPARTMENT OF HOMELAND SECURITY

8 CFR Part 214

[ICE No. 2297-03]

RIN 1653-AA23

Authorizing Collection of the Fee Levied on F, J, and M Nonimmigrant Classifications Under Public Law 104-208; SEVIS; Correction

AGENCY: Bureau of Immigration and Customs Enforcement, Department of Homeland Security.

ACTION: Final rule: Correction.

SUMMARY: The Department of Homeland Security (DHS) published in the Federal Register of July 1, 2004 (69 FR 39814), a final rule which amended the DHS regulations to provide for the collection of a fee to be paid by certain aliens who are seeking status as F-1, F-3, M-1, or M-3 nonimmigrant students or as J-1 nonimmigrant exchange visitors. The final rule contained an error that is corrected in this document.

DATES: This correction is effective September 1, 2004.

FOR FURTHER INFORMATION CONTACT: Jill Drury, Director Student and Exchange Visitor Program (SEVP), Bureau of Immigration and Customs Enforcement, Department of Homeland Security, 800 K Street, NW., Room 1000, Washington, DC 20536, telephone (202) 305-2346.

SUPPLEMENTARY INFORMATION:

Need for Correction

As published in the Federal Register on July 1, 2004 (69 FR 39814), the final rule amending parts 103, 214, and 299 contains an error that is in need of correction.

Correction of Publication

Accordingly, the publication on July 1, 2004 (69 FR 39814), of the final rule that was the subject of FR Doc. 04-14961 is corrected as follows:

PART 214—NONIMMIGRANT CLASSES

§ 214.13 [Corrected]

1. On page 39825, in the second column, paragraph (b)(3) beginning on the fourth line, the date “May 31, 2004” should read “August 31, 2004”

Dated: July 6, 2004.
Richard A. Sloan,
Director, Regulations and Forms Services Division.

[FR Doc. 04-15608 Filed 7-8-04; 8:45 am]

BILLING CODE 4410-10-P